DEPARTMENT OF JUSTICE

Drug Enforcement Administration

[Docket No. DEA-929]

Bulk Manufacturer of Controlled Substances Application: Pisgah Laboratories Inc.

AGENCY: Drug Enforcement Administration, Justice.

ACTION: Notice of application.

SUMMARY: Pisgah Laboratories Inc. has applied to be registered as a bulk manufacturer of basic class(es) of controlled substance(s). Refer to Supplemental Information listed below for further drug information.

DATES: Registered bulk manufacturers of the affected basic class(es), and applicants therefore, may file written comments on or objections to the issuance of the proposed registration on or before January 28, 2022. Such persons may also file a written request for a hearing on the application on or before January 28, 2022.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on March 30, 2021, Pisgah Laboratories Inc., 3222 Old Hendersonville Highway, Pisgah Forest, North Carolina 28768, applied to be registered as a bulk manufacturer of the following basic class(es) of controlled substance(s):

Controlled substance | Drug code | Schedule
Difenoxin | 9168 | I
Methylphenidate | 1724 | II
Diphenoxylate | 9170 | II
Levorphanol | 9220 | II
Remifentanil | 9739 | II
Tapentadol | 9780 | II

The company plans to manufacture the above-listed controlled substances in bulk for distribution to its customers. No other activities for these drug codes are authorized for this registration.

Brian S. Besser,
Acting Assistant Administrator.

[FR Doc. 2021-25949 Filed 11-26-21; 8:45 am]

BILLING CODE 4410-09-P